DEPARTMENT OF LABOR

Employment and Training Administration

[NAFTA-06282]

Glen Oaks Industries, Inc., Dallas, Texas, Formerly Employed at Marietta Sportswear Manufacturing Co., Inc., Marietta, Oklahoma; Amended Certification Regarding Eligibility to Apply for NAFTA-Transitional Adjustment Assistance

In accordance with Section 250(A), subchapter D, chapter 2, title II, of the Trade Act of 1974 (19 U.S.C. 2273), the Department of Labor issued a Certification for NAFTA Transitional Adjustment Assistance on August 21, 2002, applicable to workers of Glen Oaks Industries, Inc., Marietta Sportswear Manufacturing Co., Inc., Dallas, Texas. The notice published in the Federal Register on September 10, 2002 (67 FR 57454).

At the request of the company, the Department reviewed the certification for workers of the subject firm. New information shows that worker separations occurred involving employees of Glen Oaks Industries, Inc., Dallas, Texas, formerly employed at Marietta Sportswear Manufacturing Co., Inc., Marietta, Oklahoma. The employees were engaged in employment related to the production of men's dress slacks until the plant closed in February, 2002.

The intent of the Department's certification is to include all workers of Glen Oaks Industries, Inc., Dallas, Texas, formerly employed at Marietta Sportswear Manufacturing Company, Inc., Marietta, Oklahoma adversely affected by the transfer of production to Canada.

Accordingly, the Department is amending the certification to properly reflect this matter.

The amended notice applicable to NAFTA-06282 is hereby issued as follows:

All workers of Glen Oaks Industries, Inc., Dallas, Texas, formerly employed at Marietta Sportswear Manufacturing Co., Inc., Marietta, Oklahoma, who became totally or partially separated from employment on or after June 13, 2001, through August 21, 2004, are eligible to apply for NAFTA-TAA under Section 250 of the Trade Act of 1974.

Signed in Washington, DC this 25th day of September, 2002.
Richard Church,
Certifying Officer, Division of Trade Adjustment Assistance.

[FR Doc. 02-26758 Filed 10-21-02; 8:45 am]

BILLING CODE 4510-30-P